DEPARTMENT OF ENERGY

Federal Energy Regulatory Commission

[Docket No. EC04-100-000, et al.]

American Electric Power Service Corporation, et al.; Electric Rate and Corporate Filings

May 3, 2004.

The following filings have been made with the Commission. The filings are listed in ascending order within each docket classification.

1. American Electric Power Service Corporation

[Docket No. EC04-100-000]

Take notice that on April 28, 2004, American Electric Power Service Corporation (AEPSC), acting on behalf of its electric utility affiliates, Southwestern Electric Power Company (SWEPCO) and AEP Texas Central Company, formerly known as Central Power and Light Company (TCC), submitted an application for disclaimer of jurisdiction or, in the alternative, approval of the transfer of certain local distribution facilities to retail customers, pursuant to section 203 of the Federal Power Act (Act), 16 U.S.C. 824b (2003), and Part 33 of the Regulations of the Commission, as revised pursuant to Order No. 642, FERC Stats. & Regs. ¶ 31,111 (2000). AEPSC state that such transfers are proposed to be made to comply with the Texas Public Utility Regulatory Act and the Texas Utilities Code 39.051(a).

AEPSC states that a copy of the filing has been served on the Public Utility Commission of Texas, the Arkansas Public Service Commission, the Louisiana Public Service Commission, and on each wholesale customer served by SWEPCO or TCC.

Comment Date: May 19, 2004.

2. Llano Estacado Wind, LP, Northern Iowa Windpower LLC, Shell WindEnergy Inc., EWO Wind, LLC, and Entergy Asset Management, Inc.

[Docket Nos. EC04-101-000; ER02-73-004; ER02-257-002]

Take notice that on April 29, 2004, Llano Estacado Wind, LP (Llano Estacado), Northern Iowa Windpower LLC (NIW), Shell WindEnergy Inc. (Shell WindEnergy), EWO Wind, LLC (EWO Wind), and Entergy Asset Management, Inc. (EAM) (collectively, Applicants) filed with the Commission an application for authorization under section 203 of the Federal Power Act and notice of change in status with respect to the transfer of indirect, upstream interests in Llano Estacado and NIW. Applicants state that as a result of the proposed transaction, Shell WindEnergy, individually, and EAM and an affiliate, collectively, will each indirectly own 50 percent of Llano Estacado and 49.5 percent of NIW.

Comment Date: May 20, 2004.

3. Portland General Electric Company and PGE Trust

[Docket No. EC04-102-000]

Take notice that on April 29, 2004, Portland General Electric Company (Portland General), an electric utility for which Enron Corp. (Enron) owns all of the outstanding voting securities, and PGE Trust, a to-be-formed entity (collectively, the Applicants), filed with the Commission pursuant to section 203 of the Federal Power Act an Application for authorization of a possible interim transfer in control over Portland General from Enron to PGE Trust. Applicants state that PGE Trust would hold Enron's ownership interest in Portland General or the proceeds of a sale of such interests for further distribution.

Comment Date: May 20, 2004.

4. Coleto Creek WLE, LP

[Docket No. EG04-55-000]

On April 29, 2004, Coleto Creek WLE, LP (Coleto Creek), filed with the Commission an application for determination of exempt wholesale generator status pursuant to Part 365 of the Commission's Regulations. Coleto Creek states that the facility will consist of one coal-fired steam generating unit with a maximum net capability of 632 MW located near Victoria, Texas within the Electric Reliability Council of Texas.

Coleto Creek states that it has served a copy of this Application on the Securities and Exchange Commission and affected State commissions.

Comment Date: May 20, 2004.

5. Nueces Bay WLE, LP

[Docket No. EG04-56-000]

On April 29, 2004, Nueces Bay WLE, LP (Nueces Bay), tendered for filing with the Commission an application for determination of exempt wholesale generator status pursuant to Part 365 of the Commission's Regulations. Nueces Bay states that its facility will consist of three natural gas-fired steam generating units with a maximum net capability of 559 MW located near Corpus Christi, Texas within the Electric Reliability Council of Texas.

Nueces Bay WLE, LP states that it has served a copy of this application on the Securities and Exchange Commission and all the affected State commissions.

Comment Date: May 20, 2004.

6. J. L. Bates, LP

[Docket No. EG04-57-000]

On April 29, 2004, J.L. Bates, LP (Bates) filed with the Commission an application for determination of exempt wholesale generator status pursuant to Part 365 of the Commission's Regulations. Bates states that its facility will consist of two natural gas-fired steam generating units with a maximum net capability of 182 MW located near Mission, Texas within the Electric Reliability Council of Texas.

Bates states that it has served the documents upon the Securities and Exchange Commission and affected State commissions.

Comment Date: May 20, 2004.

7. E.S. Joslin, LP

[Docket No. EG04-58-000]

On April 29, 2004, E.S. Joslin, LP (Joslin) filed with the Commission an application for determination of exempt wholesale generator status pursuant to Part 365 of the Commission's Regulations. Joslin states that the facility will consist of one natural gas-fired steam generating unit with a maximum net capability of 254 MW located near Point Comfort, Texas within the Electric Reliability Council of Texas.

Joslin states that it has served a copy of this document upon the Securities and Exchange Commission and affected State commissions.

Comment Date: May 20, 2004.

8. La Palma WLE, LP

[Docket No. EG04-59-000]

On April 29, 2004, La Palma WLE, LP (La Palma) filed with the Commission an application for determination of exempt wholesale generator status pursuant to Part 365 of the Commission's Regulations. La Palma states that its facility will consist of three natural gas steam generating units with a maximum net capability of 203 MW and one combustion turbine unit with a maximum net capability of 52 MW located near San Benito, Texas within the Electric Reliability Council of Texas.

La Palma states that a copy of this document has been served on the Securities and Exchange Commission and affected State commissions.

Comment Date: May 20, 2004.

9. Lon C. Hill, LP

[Docket No. EG04-60-000]

On April 29, 2004, Lon C. Hill, LP (Hill) filed with the Commission an application for determination of exempt wholesale generator status pursuant to Part 365 of the Commission's Regulations. Hill states that its facility will consist of four natural gas-fired steam generating units with a maximum net capability of 559 MW located near Corpus Christi, Texas within the Electric Reliability Council of Texas.

Hill states that a copy of this filing has been served on the Securities and Exchange Commission and the affected State commissions.

Comment Date: May 20, 2004.

10. Victoria WLE, LP

[Docket No. EG04-61-000]

On April 29, 2004, Victoria WLE, LP (Victoria) filed with the Commission an application for determination of exempt wholesale generator status pursuant to Part 365 of the Commission's Regulations. Victoria states that its facility will consist of three natural gas-fired steam generating units with a maximum net capability of 491 MW located near Victoria, Texas within the Electric Reliability Council of Texas.

Victoria states that it has served a copy of this document on the Securities and Exchange Commission and affected State commissions.

Comment Date: May 20, 2004.

11. Barney M. Davis, LP

[Docket No. EG04-62-000]

On April 29, 2004, Barney M. Davis, LP (Davis) filed with the Commission an application for determination of exempt wholesale generator status pursuant to Part 365 of the Commission's Regulations. Davis states that its facility will consist of two natural gas-fired steam generating units with a maximum net capability of 697 MW located near Corpus Christi, Texas within the Electric Reliability Council of Texas.

Davis states that it has served a copy of this document on the Securities and Exchange Commission and the affected State commissions.

Comment Date: May 20, 2004.

12. Eagle Pass WLE, LP

[Docket No. EG04-63-000]

On April 29, 2004, Eagle Pass WLE, LP (Eagle Pass) filed with the Commission an application for determination of exempt wholesale generator status pursuant to Part 365 of the Commission's Regulations. Eagle Pass states that its facility will consist of three substantially identical hydroelectric units with a maximum net capability of 2 MW each located near Eagle Pass, Texas within the Electric Reliability Council of Texas.

Eagle Pass states that it has served a copy of this document on the Securities and Exchange Commission and affected State commissions.

Comment Date: May 20, 2004.

13. Laredo WLE, LP

[Docket No. EG04-64-000]

On April 29, 2004, Laredo WLE, LP (Laredo), filed with the Commission an application for determination of exempt wholesale generator status pursuant to Part 365 of the Commission's Regulations. Laredo states that its facility will consist of three natural gas-fired steam generating units with a maximum net capability of 178 MW located near Laredo, Texas within the Electric Reliability Council of Texas.

Laredo states that it has served a copy of this document on the Securities and Exchange Commission and affected State commissions.

Comment Date: May 20, 2004.

14. ANP Hartwell Operations Company, LLC

[Docket No. EG04-65-000]

On April 29, 2004, ANP Hartwell Operations Company, LLC (Hartwell Operations), a Delaware limited liability corporation with its principal place of business in Marlborough, Massachusetts, filed with the Federal Energy Regulatory Commission an application for determination of exempt wholesale generator status pursuant to Part 365 of the Commission's regulations. Hartwell Operations states that it operates a 300-MW power generation facility located in Hart County, Georgia (the Facility) and that the Facility is interconnected to the transmission system of the Georgia Integrated Transmission System. Hartwell Operations also states that it commenced operation of the Facility on April 8, 2004.

Hartwell Operations states that it has served a copy of the application on the Securities and Exchange Commission and the Georgia Public Service Commission.

Comment Date: May 20, 2004.

15. San Diego Gas & Electric Company, Complainant, v. Sellers of Energy and Ancillary Services Into Markets Operated by the California Independent System Operator and the California Power Exchange, Respondents

Investigation of Practices of the California Independent System Operator and the California Power Exchange

[Docket No. EL00-95-000 and Docket No. EL00-98-000]

The staff of the Federal Energy Regulatory Commission is convening a conference to discuss a settlement reached by some of the parties in the above-captioned proceedings. The conference will be held on Tuesday, May 18, 2004 at the Federal Energy Regulatory Commission, 888 First Street, NE., Washington, DC 20426, beginning at 10 a.m. (e.s.t.)

The purpose of the conference is to inform all interested parties of the terms of a settlement agreement recently entered into between (1) Dynegy Inc., NRG Energy, Inc., and West Coast Power, LLC (collectively Dynegy); (2) Southern California Edison Company, Pacific Gas and Electric Company, San Diego Gas and Electric Company, the People of the State of California, ex rel., Bill Lockyer, Attorney General, the California Department of Water Resources, the California Public Utilities Commission, and the California Electricity Oversight Board (the California Parties); and (3) the Office of Market Oversight and Investigations of the Federal Energy Regulatory Commission. The settlement provides that other parties in the foregoing proceedings may elect to join the settlement as to Dynegy and receive refunds in accordance with the settlement's terms. A summary of the principal terms of the settlement will be served on all parties shortly. The conference will be governed by Rule 602 of the Commission's Rules of Practice and Procedures, 18 CFR 385.602 (2003).

For additional information concerning the conference, parties or their counsel may contact Robert Pease at robert.pease@ferc.gov or Lee Ann Watson at leeann.watson@ferc.gov.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1037 Filed 5-7-04; 8:45 am]

BILLING CODE 6717-01-P